DEPARTMENT OF TRANSPORTATION

Surface Transportation Board

[STB Finance Docket No. 34088 (Sub-No. 1)]

The Columbia and Cowlitz Railway Company—Trackage Rights Exemption—The Longview Switching Company

AGENCY: Surface Transportation Board, DOT.

ACTION: Notice of exemption.

SUMMARY: The Board, under 49 U.S.C. 10502, exempts the trackage rights described in STB Finance Docket No. 34088 ¹ to permit the trackage rights to expire, as they relate to the operations extending between Columbia Junction and Longview Junction, on March 1, 2002.

¹ On August 27, 2001, The Columbia and Cowlitz Railway Company (CLC) filed a notice of exemption under the Board's class exemption procedures at 49 CFR 1180.2(d)(7). The notice covered the trackage rights agreement (agreement) by The Longview Switching Company (LSC) to grant temporary overhead trackage rights to CLC over LSC's line between Columbia Junction, WA, and Longview Junction, WA. See The Columbia and Cowlitz Railway Company—Trackage Rights Exemption—The Longview Switching Company, STB Finance Docket No. 34088 (STB served Sept. 14, 2001). The agreement is scheduled to expire on March 1, 2002. The trackage rights operations under the exemption were scheduled to be consummated on September 3, 2001.

DATES: This exemption is effective on December 20, 2001. Petitions to reopen must be filed by December 10, 2001.

ADDRESSES: An original and 10 copies of all pleadings referring to STB Finance Docket No. 34088 (Sub-No. 1) must be filed with the Surface Transportation Board, Office of the Secretary, Case Control Unit, 1925 K Street, NW., Washington, DC 20423-0001. In addition, a copy of all pleadings must be served on petitioner's representative Stephen L. Day, Esq., Betts Patterson Mines, P.S., One Convention Place, 701 Pike Street, Suite 1400, Seattle, WA 98101-3927.

FOR FURTHER INFORMATION CONTACT: Joseph H. Dettmar, (202) 565-1600. [TDD for the hearing impaired: 1 (800) 877-8339.]

SUPPLEMENTARY INFORMATION: Additional information is contained in the Board's decision. To purchase a copy of the full decision, write to, call, or pick up in person from: Dā 2 Dā Legal, Suite 405, 1925 K Street, NW., Washington, DC 20006. Telephone: (202) 293-7776. [Assistance for the hearing impaired is available through TDD services 1 (800) 877-8339.]

Board decisions and notices are available on our Website at www.stb.dot.gov.

Decided: November 9, 2001.
By the Board, Chairman Morgan, Vice Chairman Clyburn, and Commissioner Burkes.
Vernon A. Williams,
Secretary.

[FR Doc. 01-28841 Filed 11-19-01; 8:45 am]

BILLING CODE 4915-00-P